NUCLEAR REGULATORY COMMISSION

[Docket No. 72-09; NRC-2016-0036]

Department of Energy; Fort St. Vrain Independent Spent Fuel Storage Installation

AGENCY: Nuclear Regulatory Commission.

ACTION: License amendment; issuance.

SUMMARY: The U.S. Nuclear Regulatory Commission (NRC) reviewed an application by the Department of Energy (DOE) for an amendment to License No. SNM-2504 that was renewed in 2011. Under this license, DOE is authorized to receive, possess, store, and transfer spent nuclear fuel and associated radioactive materials at the Fort St. Vrain (FSV) independent spent fuel storage installation (ISFSI). The DOE requested approval to revise response times stated in the license's technical specifications that are associated with fuel storage container leak tests, and to make an editorial change to the technical specifications table of contents.

ADDRESSES: Please refer to Docket ID NRC-2016-0036 when contacting the NRC about the availability of information regarding this document. You may obtain publicly-available information related to this document using any of the following methods:

• Federal Rulemaking Web site: Go to http://www.regulations.gov and search for Docket ID NRC-2016-0036. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it available in ADAMS) is provided the first time that a document is referenced. The DOE License Amendment Request is available electronically in ADAMS under Accession No. ML15068A009.

• NRC's PDR: You may examine and purchase copies of public documents at the NRC's PDR, Room O1-F21, One White Flint North, 11555 Rockville Pike, Rockville, Maryland 20852.

FOR FURTHER INFORMATION CONTACT: Chris Allen, Office of Nuclear Material Safety and Safeguards, U.S. Nuclear Regulatory Commission, Washington, DC 20555-0001; telephone: 301-415-6877; email: William.Allen@nrc.gov.

SUPPLEMENTARY INFORMATION:

By application dated February 17, 2015, as supplemented March 9, and 18, 2015, DOE submitted to the NRC, in accordance with part 72 of title 10 of the Code of Federal Register (CFR), a request to amend License No. SNM-2504 for its FSV ISFSI located in Platteville, Colorado. This ISFSI contains spent fuel that was generated at the now- decommissioned FSV Nuclear Generating Station. License No. SNM-2504 authorizes DOE to receive, possess, store, and transfer spent nuclear fuel and associated radioactive materials at the FSV ISFSI. Specifically, DOE requested approval to revise response times stated in the license's technical specifications that are associated with fuel storage container leak tests, and to make an editorial change to the technical specifications table of contents.

The NRC issued a letter dated March 9, 2015 (ADAMS Accession No. ML15069A008), notifying DOE that the application was acceptable for review. In accordance with 10 CFR 72.46(a), a notice of proposed action and opportunity for hearing was published in the Federal Register on April 20, 2015 (80 FR 21772). No requests for a hearing or for leave to intervene were submitted. Accordingly, pursuant to 10 CFR 72.46(d), the NRC is publishing this notice that the action proposed by DOE in its license amendment request has been taken.

The NRC prepared a safety evaluation report (SER) that documents its review and evaluation of the amendment request. Also in connection with this action, the NRC prepared an Environmental Assessment (EA) (ADAMS Accession No. ML16028A407) containing a Finding of No Significant Impact (FONSI). The Notice of Availability of the EA and FONSI for the FSV ISFSI was published in the Federal Register on February 23, 2016 (81 FR 9002).

Upon completing its review, the staff determined that the amendment request complies with the standards and requirements of the Atomic Energy Act of 1954, as amended (the Act), as well as the NRC's applicable regulations. As required by the Act and such regulations, the staff made the appropriate findings which are contained in the SER (ADAMS Accession No. ML15258A235) and the EA. Based on these findings, the NRC approved DOE's amendment request and accordingly issued Amendment No. 10 to License No. SNM-2504. Amendment No. 10 was effective as of its date of issuance on March 17, 2016.

Dated at Rockville, Maryland, this 17th day of March, 2016.
For the Nuclear Regulatory Commission.
Steve Ruffin,
Acting Chief, Licensing Branch, Division of Spent Fuel Management, Office of Nuclear Material Safety and Safeguards.

[FR Doc. 2016-06946 Filed 3-25-16; 8:45 am]

BILLING CODE 7590-01-P